DEPARTMENT OF LABOR

Mine Safety and Health Administration

State's Mine Health and Safety Grants

AGENCY: Mine Safety and Health Administration, Labor.

ACTION: Notice of posting of the Solicitation for Grant Applications for the Fiscal Year 2011 State grant program.

Announcement Type: New.

Funding Opportunity Number: MSHA2011-1.

Catalog of Federal Domestic Assistance (CFDA) Number: 17.600.

SUMMARY: The United States Department of Labor, Mine Safety and Health Administration (MSHA), has posted its solicitation for grant applications (SGA) for the States grant program on http://www.grants.gov. The SGA contains all of the necessary information needed to apply for grant funding.

Applicants for these grants are States or State-designated entities. The purpose of these grants is to improve and secure safe and healthy workplaces for U.S. miners. The final amount of each individual grant will be determined by the formula in Section 503(h) of the Federal Mine Safety and Health Act of 1977 (30 U.S.C. 953(h)) and MSHA's final Fiscal Year 2011 appropriation. Application should be submitted at this time. The closing date for applications will be July 1, 2011.

DATES: All applications must be received by Midnight Eastern Daylight Savings Time on July 1, 2011.

FOR FURTHER INFORMATION CONTACT: Robert Glatter at glatter.robert@dol.gov, at 202-693-9570 (voice), or 202-693-9571 (facsimile) or Darrell Cooper at cooper.darrell@dol.gov, 202-693-9831. These are not toll-free numbers.

Authority: 30 U.S.C. 953.

Dated: December 17, 2010.
Joseph A. Main,
Assistant Secretary of Labor for Mine Safety and Health.

[FR Doc. 2011-268 Filed 1-10-11; 8:45 am]

BILLING CODE 4510-43-P